DEPARTMENT OF TRANSPORTATION

Federal Aviation Administration

Third Meeting: RTCA Tactical Operations Committee (TOC)

AGENCY: Federal Aviation Administration (FAA), U.S. Department of Transportation (DOT)

ACTION: Third Meeting Notice of RTCA Tactical Operations Committee.

SUMMARY: The FAA is issuing this notice to advise the public of the third meeting of the RTCA Tactical Operations Committee.

DATES: The meeting will be held November 7, 2013 from 9 a.m.-3 p.m.

ADDRESSES: The meeting will be held at RTCA Headquarters, 1150 18th Street NW., Suite 910, Washington, DC 20036.

FOR FURTHER INFORMATION CONTACT: The RTCA Secretariat, 1150 18th Street NW., Suite 910, Washington, DC 20036, or by telephone at (202) 833-9339, fax at (202) 833-9434, or Web site http://www.rtca.org. Andy Cebula, NAC Secretary can also be contacted at acebula@rtca.org or 202-330-0652.

SUPPLEMENTARY INFORMATION: Pursuant to section 10(a)(2) of the Federal Advisory Committee Act (Pub. L. No. 92-463, 5 U.S.C., App.), notice is hereby given for a meeting of the Tactical Operations Committee (TOC). The agenda will include the following:

November 19, 2013

• Opening of Meeting/Introduction of TOC Members

• Official Statement of Designated Federal Official

• Approval of July 23, 2013 Meeting Summary

• FAA Report

• Notice to Airmen (NOTAM) Activity Prioritization

• Regional Task Groups (RTGs)

• Reports on current activities underway by Regional Task Groups: Eastern, Central, Western

• VHF Omni-directional Range (VOR) Minimum Operating Network

• New Tasking: Obstacle Clearance

• Anticipated Issues for TOC consideration and action at the next meeting

• Other Business

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on October 18, 2013.
Edith V. Parish,
Senior Advisor, Mission Support Services, Air Traffic Organization, Federal Aviation Administration.

[FR Doc. 2013-24968 Filed 10-22-13; 8:45 am]

BILLING CODE 4910-13-P